DEPARTMENT OF ENERGY

Federal Energy Regulatory Commission

[Docket No. RP05-393-001]

Midwestern Gas Transmission Company; Notice of Compliance Filing

September 27, 2005.

Take notice that on September 21, 2005, Midwestern Gas Transmission Company (Midwestern) tendered for filing to become part of its FERC Gas Tariff, Third Revised Volume No. 1, the following tariff sheets to become effective September 1, 2005:

Substitute Sixth Revised Sheet No. 202

Substitute Eighth Revised Sheet No. 204

Substitute Second Revised Sheet No. 222A

Fifth Revised Sheet No. 224

Substitute Second Revised Sheet No. 230A

Substitute Fourth Revised Sheet No. 235

Substitute Third Revised Sheet No. 242

Substitute Fifth Revised Sheet No. 272

Midwestern states that this filing is being made to comply with the Commission's Letter Order dated September 6, 2005 regarding compliance with the Federal Energy Regulatory Commission's Order No. 587-S .

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of Section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive email notification when a document is added to a subscribed docket(s). For assistance with any FERC Online service, please e-mail FERCOnlineSupport@ferc.gov, or call (866) 208-3676 (toll free). For TTY, call (202) 502-8659.

Magalie R. Salas,
Secretary.

[FR Doc. E5-5405 Filed 9-30-05; 8:45 am]

BILLING CODE 6717-01-P